DEPARTMENT OF TRANSPORTATION

Federal Motor Carrier Safety Administration

[Docket No. FMCSA-2007-28618]

Agency Information Collection Activities; New Information Collection: Household Goods Consumer Information Program Assessment Study

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. This proposed ICR will be used to collect information on recent interstate household goods shippers' (consumers) awareness of the Household Goods (HHG) Consumer Information Program messages and activities. This information collection will establish a baseline assessment of the Program's activities and aid FMCSA in developing future Household Goods education and outreach initiatives by surveying and examining consumer awareness of the “Protect Your Move” campaign and other HHG messages.

DATES: We must receive your comments on or before November 26, 2007.

ADDRESSES: You may submit comments identified by any of the following methods. Please identify your comments by the FMCSA Docket Number FMCSA-2007-28618.

• Web site: http://dms.dot.gov. Follow instructions for submitting comments to the Docket.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590 between 9 a.m. and 5 p.m., e.t., Monday through Friday, except Federal holidays.

Docket: For access to the Docket Management System (DMS) to read background documents or comments received, go to http://dms.dot.gov at any time or to the U.S. Department of Transportation, Docket Operations, M-30, West Building Ground Floor, Room W12-140, 1200 New Jersey Avenue, SE., Washington, DC 20590 between 9 a.m. and 5 p.m., e.t., Monday through Friday, except Federal holidays. The DMS is available electronically 24 hours each day, 365 days each year. If you want notification of receipt of your comments, please include a self-addressed stamped envelope or postcard or print the acknowledgement page that appears after submitting comments on-line.

Privacy Act: Anyone is able to search the electronic form of all comments received into any of our dockets by the name of the individual submitting the comment (or signing the comment, if submitted on behalf of an association, business, labor union, etc.). You may review DOT's complete Privacy Act Statement in the Federal Register on April 11, 2000 (65 FR 19477), or you may visit http://dms.dot.gov.

FOR FURTHER INFORMATION CONTACT: Mr. Brian Ronk, Office of Outreach and Development, Department of Transportation, Federal Motor Carrier Safety Administration, 1200 New Jersey Avenue, SE., Washington, DC 20590. Telephone: (202) 366-1072, or e-mail brian.ronk@dot.gov.

SUPPLEMENTARY INFORMATION: Background: The purpose of this study is to quantify and assess consumer awareness of the Household Goods (HHG) Consumer Information Program. The study will determine the interstate moving public's recognition or knowledge of the Program's activities or messages, such as the “Protect Your Move” campaign. The data will be collected through a telephone survey. Results of the study will not be published, but used for internal research purposes by FMCSA in developing future HHG campaign materials, identifying target audiences, and determining distribution strategies to provide better consumer information to the public. It will also serve as a baseline for future program evaluations or assessments. A follow-up telephone survey will be conducted two years after the initial data collection and compared against the results from the baseline assessment.

Title: Household Goods Consumer Information Program Assessment Study.

OMB Control Number: 2126-xxxx.

Type of Request: New collection.

Respondents: Public/consumers who have moved household goods from one State to a different State throughout the U.S. (Interstate Household Goods Shippers).

Estimated Number of Respondents: 1,500.

Estimated Time per Response: The estimated average burden per response is 15 minutes.

Expiration Date: N/A.

Frequency of Response: This information collection will occur twice within the effective period of the OMB clearance; once in the current year and once again two years following the initial data collection.

Estimated Total Annual Burden: 375 [1,500 respondents × 15 minutes/60 minutes per response = 375].

Public Comments Invited: Interested parties are invited to send comments regarding any aspect of this information collection, including but not limited to: (1) Whether the proposed collection is necessary for the performance of FMCSA's functions; (2) the accuracy of the estimated burden; (3) ways for FMCSA to enhance the quality, usefulness, and clarity of the collected information; and (4) ways that the burden could be minimized without reducing the quality of the collected information. Comments submitted in response to this notice will be summarized and/or included in the request for OMB's clearance for this information collection.

Issued on: September 21, 2007.
Terry Shelton,
Associate Administrator for Research and Information Technology.

[FR Doc. E7-19017 Filed 9-25-07; 8:45 am]

BILLING CODE 4910-EX-P